FEDERAL COMMUNICATIONS COMMISSION

47 CFR Part 73

[DA No. 01-1906; MM Docket No. 01-186, RM-9976]

Radio Broadcasting Services; Honor, Bear Lake, Ludington & Walhalla, MI

AGENCY: Federal Communications Commission.

ACTION: Proposed rule.

SUMMARY: This document requests comments on a petition filed by Northern Radio of Michigan, Inc. proposing the substitution of Channel 264C3 for Channel 264A at Honor, Michigan, and modification of the license for Station WIAR to specify operation on Channel 264C3. The coordinates for Channel 264C3 at Honor are 44-37-25 and 86-00-19. To accommodate the allotment at Honor, we shall propose the substitution of Channel 2291A for Channel 261A at Bear Lake, Michigan, and modification of the license for Station WSRQ to specify operation on Channel 291A at coordinates 44-17-30 and 86-13-30; substitution of Channel 254A for Channel 292A at Ludington, Michigan, and modification of the license for Station WKLA at coordinates 44-03-27 and 86-24-58; and substitution of Channel 293A for vacant Channel 255A at Walhalla, Michigan, at coordinates 44-00-18 and 86-08-16. Canadian concurrence will be requested for the allotments at Honor, Bear Lake, Ludington and Walhalla, Michigan. In accordance with Section 1.420(g) of the Commission's Rules, we will not accept competing expressions of interest for the use of Channel 264C3 at Honor, or require petitioner to demonstrate the availability of an additional equivalent class channel for use by such parties.

DATES: Comments must be filed on or before October 1, 2001, and reply comments on or before October 16, 2001.

ADDRESSES: Federal Communications Commission, Washington, DC 20554.

In addition to filing comments with the FCC, interested parties should serve the petitioner's counsel, as follows: Harry C. Martin, Jennifer Dine Wagner, Fletcher, Heald & Hildreth, PLC, 1300 North 17th Street, 11th Floor, Arlington, Virginia 22209.

FOR FURTHER INFORMATION CONTACT: Kathleen Scheuerle, Mass Media Bureau, (202) 418-2180.

SUPPLEMENTARY INFORMATION: This is a summary of the Commission's Notice of Proposed Rule Making, MM Docket No. 01-186, adopted August 1, 2001, and released August 10, 2001. The full text of this Commission decision is available for inspection and copying during normal business hours in the Commission's Reference Center, Washington, DC. The complete text of this decision may also be purchased from the Commission's copy contractors, International Transcription Services, Inc., 1231 20th Street, NW., Washington, DC 20036, (202) 857-3800, facsimile (202) 857-3805.

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contact.

For information regarding proper filing procedures for comments, see 47 CFR 1.415 and 1.420.

List of Subjects in 47 CFR Part 73

Radio broadcasting.

For the reasons discussed in the preamble, the Federal Communications Commission proposes to amend 47 CFR part 73 as follows:

PART 73—RADIO BROADCAST SERVICES

1. The authority citation for part 73 continues to read as follows:

Authority: 47 U.S.C. 154, 303, 334 and 336.

§ 73.202 [Amended]

2. Section 73.202(b), the Table of FM Allotments under Michigan, is amended by removing Channel 264A and adding Channel 264C3 at Honor, by removing Channel 261A and adding Channel 291A at Bear Lake, by removing Channel 292A and adding Channel 254A at Ludington, and by removing Channel 255A and adding Channel 293A at Walhalla.

Federal Communications Commission.
John A. Karousos,
Chief, Allocations Branch, Policy and Rules Division, Mass Media Bureau.

[FR Doc. 01-21410 Filed 8-23-01; 8:45 am]

BILLING CODE 6712-01-P